DEPARTMENT OF STATE

[Public Notice 5116]

Notice of Receipt of Application for a Presidential Permit for Pipeline Facilities to be Constructed, Operated and Maintained on the Border of the United States

AGENCY: Department of State, Office of International Energy and Commodities Policy.

ACTION: Notice.

Notice is hereby given that the Department of State has received an application from Valero Logistics Operations, L.P. (Valero) for a Presidential permit, pursuant to Executive Order 13337 of April 30, 2004, authorizing the construction, connection, operation, and maintenance at the U.S.-Mexican border in the vicinity of Hidalgo, Texas of a liquid pipeline capable of carrying naphtha, and related pipeline facilities.

Valero is a corporation organized and existing under the laws of the State of Texas and with its principal office located in San Antonio, Texas. The proposed new 8-inch diameter pipeline would originate at an existing Valero pipeline system in Edinburg, Texas and cover approximately 34 miles, crossing under the Rio Grande River and terminating at a new pipeline that will be constructed, owned and operated by Petroleos Mexicanos (PEMEX), the Mexican national oil company. It is anticipated that initial contract deliveries of naphtha to Edinburg will be 24,000 barrels (one million gallons) per month.

As required by E.O. 13337, the Department of State is circulating this application to concerned federal agencies for comment.

DATES: Interested parties are invited to submit, in duplicate, comments relative to this proposal on or before July 22, 2005 to Pedro Erviti, Office of International Energy and Commodities Policy, Department of State, Washington, DC 20520. The application and related documents that are part of the record to be considered by the Department of State in connection with this application are available for inspection in the Office of International Energy and Commodities Policy during normal business hours.

FOR FURTHER INFORMATION CONTACT: Pedro Erviti, Office of International Energy and Commodities Policy (EB/ESC/IEC/EPC), Department of State, Washington, DC 20520; by telephone at (202) 647-1291; by fax at (202) 647-4037; or by e-mail at ervitipg@state.gov.

Dated: June 15, 2005.
Stephen J. Gallogly,
Director, Office of International Energy and Commodities Policy, Department of State.

[FR Doc. 05-12339 Filed 6-21-05; 8:45 am]

BILLING CODE 4710-07-P